DEPARTMENT OF COMMERCE

International Trade Administration

April 2001 Sunset Reviews: Final Results and Revocation

AGENCY: Import Administration, International Trade Administration, Department of Commerce.

ACTION: Notice of final results of five-year (“Sunset”) reviews and revocation of antidumping duty orders: polyvinyl alcohol from the People's Republic of China (A-570-842), Japan (A-588-836), and Taiwan (A-583-824).

SUMMARY: On April 2, 2001, the Department of Commerce (“the Department”) initiated sunset reviews of the antidumping duty orders on polyvinyl alcohol from the People's Republic of China (“PRC”), Japan, and Taiwan (66 FR 17524). Because no domestic interested party responded to the sunset review notice of initiation by the applicable deadline, the Department is revoking these antidumping duty orders.

EFFECTIVE DATE: May 14, 2001.

FOR FURTHER INFORMATION CONTACT: Martha V. Douthit or James P. Maeder, Office of Policy, Import Administration, International Trade Administration, U.S. Department of Commerce, 14th Street and Constitution Avenue, NW, Washington, DC 20230; telephone: (202) 482-5050 or (202) 482-3330, respectively.

SUPPLEMENTARY INFORMATION:

The Applicable Statue

Unless otherwise indicated, all citations to the Tariff Act of 1930, as amended (the “Act”), are references to the provisions effective January 1, 1995, the effective date of the amendments made to the Act by the Uruguay Round Agreements Act (“URAA”). In addition, unless otherwise indicated, all citations to the Department of Commerce's (“Department”) regulations are to 19 CFR part 351 (2000).

Background

On May 14, 1996, the Department issued antidumping duty orders on polyvinyl alcohol from the PRC, Japan, and Taiwan. Pursuant to section 751(c) and 19 CFR part 351 in general, the Department initiated sunset reviews of these orders by publishing a notice of the initiation in the Federal Register, 66 FR 17524 (April 2, 2001). In addition, as a courtesy to interested parties, the Department sent letters, via certified and registered mail, to each party listed on the Department's most current service list for this proceeding to inform them of the automatic initiation of sunset reviews of these orders.

Because the Department did not receive any domestic interested party response to the sunset review notice of initiation by the applicable deadline, April 17, 2001, the Department notified the International Trade Commission on April 19, 2001, that it intended to issue a final determination revoking these antidumping duty orders.

Determination To Revoke

Pursuant to section 751(c)(3)(A) of the Act and 19 CFR 351.218(d)(1)(iii)(B)(3), of the Sunset Regulations, if no domestic interested party responds to the notice of initiation, the Department shall issue a final determination, within 90 days after the initiation of the review, revoking the finding or order or terminating the suspended investigation. Because no domestic interested party filed a response to the notice of initiation, the Department finds that no domestic interested party is participating in these reviews, and it is revoking these antidumping duty orders.

Effective Date of Revocations

Pursuant to sections 751(c)(3)(A) and 751(d)(2) of the Act, and 19 CFR 351.222(i)(2)(i), the Department will instruct the Customs Service to terminate the suspension of liquidation of the merchandise subject to these orders entered, or withdrawn from warehouse, on or after May 14, 2001. Entries of subject merchandise prior to the effective date of revocation will continue to be subject to suspension of liquidation. The Department will complete any pending administrative reviews of these orders and will conduct administrative reviews of subject merchandise entered prior to the effective date of revocation in response to appropriately filed requests for review.

Effective January 20, 2001, Bernard T. Carreau is fulfilling the duties of the Assistant Secretary for Import Administration.

Dated: April 27, 2001.
Bernard T. Carreau,
Deputy Assistant Secretary, Import Administration.

[FR Doc. 01-11150 Filed 5-2-01; 8:45 am]

BILLING CODE 3510-DS-P